DEPARTMENT OF COMMERCE

International Trade Administration

[A-570-051, C-570-052]

Certain Hardwood Plywood Products From the People's Republic of China: Preliminary Scope Determination and Affirmative Preliminary Determination of Circumvention of the Antidumping and Countervailing Duty Orders; Extension of Deadline To Certify Certain Entries

AGENCY: Enforcement and Compliance, International Trade Administration, Department of Commerce.

SUMMARY: On July 29, 2022, the U.S. Department of Commerce (Commerce) published a notice of a preliminary scope determination and affirmative preliminary circumvention determination in the Federal Register concerning the antidumping duty (AD) and countervailing duty (CVD) orders on certain hardwood plywood products (hardwood plywood) from the People's Republic of China (China). This notice informs parties that Commerce has extended the deadline for certain exporters and importers to certify entries of hardwood plywood exported from the Socialist Republic of Vietnam (Vietnam) that were entered, or withdrawn from warehouse, for consumption on or after June 17, 2020, and until August 28, 2022. This notice also informs interested parties that Commerce is requesting comments regarding a potential modification to certification program eligibility, and the process for demonstrating eligibility for the certification program. In addition, this notice provides several other procedural notifications to interested parties.

DATES: Applicable December 1, 2022.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION: In the Preliminary Determination, Commerce established a certification program and a deadline for certain exporters and importers to certify that entries of hardwood plywood exported from Vietnam that entered, or were withdrawn from warehouse, for consumption on or after June 17, 2020, and until August 28, 2022, are not subject to the AD and CVD orders on hardwood plywood from China.¹ On September 12, 2022, Commerce extended the deadline for exporters and importers to complete these certifications from September 12, 2022,² to December 1, 2022.³

¹ See Certain Hardwood Plywood Products from the People's Republic of China: Preliminary Scope Determination and Affirmative Preliminary Determination of Circumvention of the Antidumping and Countervailing Duty Orders, 87 FR 45753, 45756-58 (July 29, 2022) (Preliminary Determination); see also Certain Hardwood Plywood Products from the People's Republic of China: Amended Final Determination of Sales at Less Than Fair Value, and Antidumping Duty Order, 83 FR 504 (January 4, 2018); and Certain Hardwood Plywood Products from the People's Republic of China: Countervailing Duty Order, 83 FR 513 (January 4, 2018).

² See Preliminary Determination, 87 FR at 45756.

³ See Memorandum, “Extension of Deadline to Certify Certain Entries of Hardwood Plywood and Response to Request to Modify Cash Deposit Instructions,” dated September 12, 2022; see also Certain Hardwood Plywood Products from the People's Republic of China: Preliminary Scope Determination and Affirmative Preliminary Determination of Circumvention of the Antidumping and Countervailing Duty Orders; Extension of Deadline To Certify Certain Entries, 87 FR 58063 (September 23, 2022).

Extension and Modification

On November 30, 2022, Commerce issued a memorandum via Enforcement and Compliance's Antidumping and Countervailing Duty Centralized Electronic Service System (ACCESS) notifying interested parties that it was extending the deadline for certifications of entries on or after June 17, 2020, and until August 28, 2022, until thirty days after the deadline for the final determination of this inquiry. Accordingly, unless the final determination is extended, certifications of entries on or after June 17, 2020, and until August 28, 2022, will be due by March 2, 2023.⁴ Also on November 30, 2022, Commerce transmitted instructions to U.S. Customs and Border Protection (CBP) notifying CBP of the extended deadline.⁵ The deadline for exporters and importers to complete the certification requirements established in the Preliminary Determination for entries on or after June 17, 2020, through August 28, 2022, is now March 2, 2023.

⁴ See Memorandum, “Extension of Deadline to Certify Certain Entries of Hardwood Plywood and Response to Ministerial Error Allegations,” dated November 30, 2022.

⁵ See CBP Message 2335408, “Notice of Amended Deadline for Certifications in the Vietnam-wide Circumvention Inquiry of the Antidumping and Countervailing Duty Orders on certain Hardwood Plywood Products and Veneered Panels from the People's Republic of China (A-570-051, C-570-052 and A-552-006, C-552-007),” dated December 1, 2022; see also CBP Message 2335409, “Notice of Amended Deadline for Certifications in the Scope Inquiry of the Antidumping and Countervailing Duty Orders on Certain Hardwood Plywood Products and Veneered Panels from the People's Republic of China (A-570-051 and C-570-052),” dated December 1, 2022.

In addition, after considering interested party comments to date, Commerce is considering modifying its eligibility determination and allowing 22 of the companies that Commerce precluded from participating in the certification program in the Preliminary Determination (i.e., companies that failed to cooperate by submitting unreliable information) ⁶ to certify entries during the period beginning on June 17, 2020, through December 31, 2021. However, as detailed below, should they wish to participate in the certification program after December 31, 2021, these 22 companies would still need to demonstrate their eligibility to certify entries occurring on or after January 1, 2022. As such, these 22 companies will not be allowed to participate in the certification program for entries that entered on or after January 1, 2022. Additionally, Commerce does not intend to modify the certification program for the 14 companies that are precluded from participating in this certification program in the Preliminary Determination (i.e., companies that failed to respond to Commerce's requests for information) ⁷ and continue to find these companies are still not eligible to participate in the certification program until they are able to demonstrate their eligibility, as described below. Parties that wish to comment on this potential modification should do so in their case briefs.⁸

⁶ See Preliminary Determination at Appendix V.

⁷ Id.

⁸ Commerce intends to establish the schedule for case and rebuttal briefs under 19 CFR 351.309(c) and (d) at a later date.

In the event of an affirmative final determination, Commerce intends to instruct CBP to liquidate all suspended entries from June 17, 2020, through December 31, 2021, pursuant to the previously issued automatic liquidation instructions (ALIs) applicable to those periods.

Entries made on or after January 1, 2022, that are ineligible for certification (from the 22 companies that failed to cooperate, the 14 companies that failed to respond, or for other reasons) shall remain subject to suspension until final assessment on those entries, whether by ALIs, or final results of administrative review.⁹ Interested parties that wish to have their suspended entries reviewed or eligibility for the certification program reevaluated should request an administrative review of the relevant suspended entries during the next anniversary month of these Orders (i.e., January 2023).¹⁰

⁹ Commerce continues to consider the process by which companies may demonstrate eligibility for the certification program in future segments and may determine to audit some or all of the certifications during this special excepted period (i.e., June 17, 2020-December 31, 2021) by parties that subsequently seek to participate in the certification program. Commerce encourages interested parties to provide comments on this topic in their case briefs.

¹⁰ See 19 CFR 351.213(b).

Notification to Interested Parties

This notice is issued and published in accordance with section 781(b) of the Tariff Act of 1930, as amended and 19 CFR 351.225(f) and (h).¹¹

¹¹ Commerce significantly revised its scope regulations on September 20, 2021, with an effective date of November 4, 2021. See Regulations to Improve Administration and Enforcement of Antidumping and Countervailing Duty Laws, 86 FR 52300 (September 20, 2021). The amendments to 19 CFR 351.225 apply to scope inquiries for which a scope ruling application is filed, as well as any scope inquiry self-initiated by Commerce, on or after November 4, 2021. The newly promulgated 19 CFR 351.226 applies to circumvention inquiries for which a circumvention request is filed, as well as any circumvention inquiry self-initiated by Commerce, on or after November 4, 2021. We note that these scope and circumvention inquiries were initiated prior to the effective date of the new regulations, and, thus, any reference to the regulations is to the prior version of the regulations.

Dated: December 1, 2022.
Lisa W. Wang,
Assistant Secretary for Enforcement and Compliance.

[FR Doc. 2022-26670 Filed 12-7-22; 8:45 am]

BILLING CODE 3510-DS-P